OFFICE OF THE UNITED STATES TRADE REPRESENTATIVE

[Docket No. USTR-2020-0023]

Review of Action: Enforcement of U.S. WTO Rights in Large Civil Aircraft Dispute

AGENCY: Office of the United States Trade Representative.

ACTION: Request for comments.

SUMMARY: The U.S. Trade Representative is conducting a review of the action being taken in the Section 301 investigation involving the enforcement of U.S. World Trade Organization (WTO) rights in the Large Civil Aircraft dispute. In connection with this review, the U.S. Trade Representative is considering modifying the list of products of certain current or former European Union (EU) member States that currently are subject to additional duties. Annex I to this notice contains the list of products currently subject to additional duties. Annex II contains a list of products, originally published in the April and July 2019 notices in this investigation, under consideration but not currently subject to additional duties. Annex III contains a new list of products being considered for imposition of additional duties. The Office of the United States Trade Representative (USTR) requests comments with respect to whether products listed in Annex I should be removed from the list or remain on the list; whether the rate of additional duty on specific products should be increased, up to a level of 100 percent; whether additional duties should be imposed on specific products listed in Annex II or Annex III; and on the rate of additional duty of up to 100 percent to be applied to any products drawn from Annex II or Annex III. On June 26, 2020, USTR is opening an electronic portal for submission of comments regarding the review of the action.

DATES:

June 26, 2020: The docket entitled “Comments Concerning the Enforcement of U.S. WTO Rights in Large Civil Aircraft Dispute” will open on USTR's comment portal: https://comments.ustr.gov/s/.

July 26, 2020: To be assured of consideration, you must submit comments by this date.

ADDRESSES: You must submit comments through the online comment portal: https://comments.ustr.gov/s/. Follow the instructions for submitting comments in section D below. For issues with on-line submissions, please contact the USTR Section 301 line at (202) 395-5725.

FOR FURTHER INFORMATION CONTACT: For questions about the investigation, contact Associate General Counsel Megan Grimball at (202) 395-5725, or Director for Europe Michael Rogers at (202) 395-3320. For questions on customs classification of products identified in the annexes to this notice, contact Traderemedy@cbp.dhs.gov.

SUPPLEMENTARY INFORMATION:

A. Proceedings in the Investigation

For background on the proceedings in this investigation, please see the prior notices issued in the investigation: 84 FR 15028 (April 12, 2019), 84 FR 32248 (July 5, 2019), 84 FR 54245 (October 9, 2019), 84 FR 55998 (October 18, 2019), 84 FR 67992 (December 12, 2019), 85 FR 10204 (February 21, 2020), 85 FR 14517 (March 12, 2020) and, 85 FR 31845 (May 27, 2020).

B. Review of the Action in the Investigation

The U.S. Trade Representative is conducting a review of the action being taken in the investigation to facilitate a possible modification of the action in accordance with Section 306(b)(2)(B)(i) of the 1974 Trade Act, as amended. USTR invites public comments with respect to the maintenance or imposition of additional duties on the specific products of specific current or former EU member States indicated on the lists in the Annexes to this notice. Annex I lists the specific products of current or former EU member States that currently are subject to additional duties of 15 or 25 percent. See 85 FR 10204. Annex II lists products of current or former EU member States for which additional duties of up to 100 percent previously were proposed, but for which no additional duties currently are imposed in this investigation. See 84 FR 15028 and 84 FR 32248.

In addition, the U.S. Trade Representative is considering an additional list of products of France, Germany, Spain, and the United Kingdom that may be included on a final list of products subject to additional ad valorem duties of up to 100 percent. The additional list of products (included in Annex III to this notice) contains 30 tariff subheadings with an approximate value of $3.1 billion in terms of the estimated import trade value for calendar year 2018. If the U.S. Trade Representative determines to modify the action being taken in the investigation, the final list of products subject to additional duties in the action may be drawn from the list of products in Annexes I, II, or III.

C. Request for Public Comments

With respect to products listed in Annex I, USTR invites comments on whether specific products of current or former EU member States should remain on or be removed from the list, and if a product remains on the list, whether the current rate of additional duty should be increased to as high as 100 percent.

With respect to products listed in Annexes II and III, USTR invites comments on whether specific products of specific current or former EU member States should be included on a revised list of products subject to additional duties, and the rate of additional duty (as high as 100 percent) that should be imposed.

USTR invites interested persons to address:

• Whether maintaining or imposing additional duties on a specific product of one or more current or former EU member States would be appropriate to enforce U.S. WTO rights or to obtain the elimination of the EU's WTO-inconsistent measures, and/or would likely result in the implementation of the Dispute Settlement Body (DSB) recommendations in the Large Civil Aircraft dispute or in achieving a mutually satisfactory solution.

• Whether maintaining or imposing additional duties on specific products of one or more current or former EU member States would cause disproportionate economic harm to U.S. interests, including small or medium-size businesses and consumers.

D. Procedures for Submission of Comments

You must submit comments regarding review of the action using the electronic portal at https://comments.ustr.gov/s/. As stated above, the docket regarding the review of this action will open on June 26, 2020. On that date, you will be able to view a docket entitled “Comments Concerning the Enforcement of U.S. WTO Rights in Large Civil Aircraft Dispute” on the portal. A facsimile of the Large Civil Aircraft (LCA) comment form is attached as Annex IV to this notice.

You do not need to establish an account to submit comments. Fields with a gray (BCI) notation are for Business Confidential Information and the information entered will not be publicly available. Required fields are marked `Required' and will have a red asterisk (*). Fields with a green (Public) notation will be viewable by the public. Please note that the color-coding of public fields and BCI fields is not visible on the attached facsimile, but will be apparent on the actual LCA Form used on the portal.

The first screen of the portal requires you to enter identification and contact information. Third party organizations, such as law firms, trade associations, or customs brokers, should identify the full legal name of the organization they represent, and identify the primary point of contact for the submission. The remaining fields of the form are optional.

After entering the identification and contact information, you can complete the remainder of questionnaire, or any portion of it by clicking `Next.' You can provide narrative comments at the second screen of the portal. You can comment on multiple products in a single entry, or submit multiple comments. You will be able to navigate through each screen of the form by clicking `Next,' with or without entering a response to each field on an individual screen or page. Additionally, you will be able to upload documents at the end of the LCA Form and designate whether USTR should treat the documents as business confidential or public information. You will be able to review the public version of your submission before it is posted on the public docket.

E. Paperwork Reduction Act

In accordance with the requirements of the Paperwork Reduction Act of 1995 and its implementing regulations (PRA), the Office of Management and Budget (OMB) assigned control number 0350-0015, which expires December 31, 2020. As part of this emergency processing request (85 FR 31845), over 100 comments were submitted. OMB reviewed the comments and USTR made changes to the LCA Form in response to the comments that are intended to make the LCA Form easier to navigate and complete. The changes include the ability to provide narrative comments at the beginning of the form, and the designation of fields as “optional” or “required.” You can view the PRA comments here: https://www.reginfo.gov/public/do/PRAViewDocument?ref_nbr=202005-0350-001.

Joseph Barloon.
General Counsel, Office of the United States Trade Representative.

BILLING CODE 3290-F8-P

[FR Doc. 2020-13824 Filed 6-25-20; 8:45 am]

BILLING CODE 3290-F8-C